DEPARTMENT OF HEALTH AND HUMAN SERVICES

National Institutes of Health

Submission for OMB Review; 30-Day Comment Request; Hazardous Waste Worker Training—National Institute of Environmental Health Sciences

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30-days of the date of this publication.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: To request more information on the proposed project or to obtain a copy of the data collection plans and instruments, contact: Sharon D. Beard, Director, Worker Training Program (WTP), Division of Extramural Research and Training (DERT), NIEHS, P.O. Box 12233 MD: K3-14, Research Triangle Park, NC 27709 or call non-toll-free number 984-287-3237 or email your request, including your address to: beard1@niehs.nih.gov.

SUPPLEMENTARY INFORMATION: This proposed information collection was previously published in the Federal Register on March 25, 2022, pages 17095-17096 (87 FR 17095) and allowed 60 days for public comment. No public comments were received. The purpose of this notice is to allow an additional 30 days for public comment. The National Institute of Environmental Health Sciences (NIEHS), National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: Hazardous Waste Worker Training Grantee Data Collection—42 CFR part 65, 0925-0348, Expiration Date 07/31/2022 REVISION, National Institute of Environmental Health Sciences (NIEHS), National Institutes of Health (NIH).

Need and Use of Information Collection: The NIEHS WTP is authorized by the Superfund Amendments and Reauthorization Act of 1986 (SARA), Section 126(g) to fund multi-state or national non-profit organizations with a demonstrated track record in developing and delivering high quality training to workers who are involved in handling hazardous waste or in responding to emergency releases of hazardous materials. The WTP contains the Hazardous Waste Worker Training Program (HWWTP), the Environmental Career Worker Training Program (ECWTP), the HAZMAT Disaster Preparedness Training Program (HDPTP), and the NIEHS/Department of Energy (DOE) Nuclear Worker Training Program to fund nonprofit organizations to develop and administer model health and safety training programs for hazardous materials or waste workers. Respondent organizations are to provide information in accordance with § 65.4(a), (b), (c) and § 65.6(b) on the nature, duration, and purpose of the training; selection criteria for trainees' qualifications; competency of the project director and staff; cooperative arrangements of the consortia; and the adequacy of training plans and resources, including budget and response to meeting training criteria in the Occupational Safety and Health Administration's (OSHA) Hazardous Waste Operations and Emergency Response Regulations (29 CFR 1910.120). The information collected is used by the Director through officers, employees, experts, and consultants to evaluate applications based on technical merit to determine whether to make awards, and whether appropriate training is being conducted to support continuation of the grant into subsequent years. The information collected the past three years has been utilized in training summaries containing information on numbers of workers trained, courses conducted and contact hours, progress reports, and highlights of accomplishments; to answer inquiries from Congress, NIH OD, HHS, NIEHS leadership, and other key leadership; to produce State Profiles and other communications materials that are requested and used by Congress and other external parties; to document and disseminate training activities related to supplemental funding and/or key topics, such as COVID-19, Opioids, the Disaster Relief Act of 2018, and environmental careers job training; to update the Curricula Catalog; to start the Material Upload and Search Tool for Infectious Disease (MUSTID) Resource Portal, an easy access resource on infectious disease and worker safety shared by and relevant to the WTP; to complete required reporting on the benefits and activities under the ECWTP for the White House Justice40 Initiative with ECWTP being named a pilot program for Justice40; and to monitor and report on Disaster Preparedness and Response activities. The NIEHS WTP Curricula Information and Data Management System (DMS), the system the WTP uses to collect this data from the WTP Grantees, is critical to the operation of the Program and the ability of the Program to continue the operations listed above. Without this data, the WTP would be unable to adequately describe program accomplishments to funders & government leadership, and unable to adequately monitor grants to ensure goals are being met. The WTP also funds Small Business Innovative Research (SBIR) grants, an e-Learning for HAZMAT Program that focuses on the development of e-Learning health and safety training products from a variety of delivery methods to assist both students and instructors in the training and education process. Since 2002 the WTP has funded 85 SBIR grants. The WTP would also like to ascertain the successes of the SBIR e-Learning program.

OMB approval is requested for three years. There are no costs to respondents other than their time. The total estimated annualized burden hours are 785.

Estimated Annualized Burden Hours
Form name | Type of respondent | Number of respondents | Number of responses per respondent | Average time per response (in hours) | Total annual burden hour
Information Collection Questionnaire (Data Management System) (HWWTP, DOE) | Grantee | 25 | 2 | 14 | 700
Information Collection Questionnaire (Survey) SBIR | Grantee | 85 | 1 | 1 | 85
Total |  | 110 | 135 |  | 785

Jane M. Lambert,
Project Clearance Liaison, National Institute of Environmental Health Sciences, National Institutes of Health.

[FR Doc. 2022-12029 Filed 6-3-22; 8:45 am]

BILLING CODE 4140-01-P